NUCLEAR REGULATORY COMMISSION

[Docket No. 72-11]

Notice of Issuance of Amendment to Materials License No. SNM-2510; Sacramento Municipal Utility District; Rancho SECO Independent Spent Fuel Storage Installation

AGENCY: Nuclear Regulatory Commission.

ACTION: License Amendment.

SUMMARY: The U.S. Nuclear Regulatory Commission (NRC or Commission) has issued Amendment 2 to Materials License SNM-2510 held by Sacramento Municipal Utility District (SMUD) for the receipt, possession, transfer, and storage of spent fuel at the Rancho Seco Independent Spent Fuel Storage Installation (ISFSI), located on the site of the Rancho Seco Nuclear Generating Station located in Sacramento County, California. The amendment is effective as of the date of issuance.

FOR FURTHER INFORMATION CONTACT: James R. Hall, Senior Project Manager, Spent Fuel Project Office, Office of Nuclear Material Safety and Safeguards, U.S. Nuclear Regulatory Commission, Washington, DC 20555. Telephone: (301) 415-1336; fax number: (301) 415-8555; email: jrh@nrc.gov.

SUPPLEMENTARY INFORMATION: By application dated July 29, 2004, SMUD submitted a request to the NRC, in accordance with Title 10 of the Code of Federal Regulations (10 CFR) 72.56, “Application for amendment of license,” to amend the License for the Rancho Seco ISFSI to allow for the storage of Greater than Class C (GTCC) waste. This requested change does not affect the design, operation, or surveillance of the ISFSI.

This amendment complies with the requirements of the Atomic Energy Act of 1954, as amended (the Act), and the Commission's rules and regulations. The Commission has made appropriate findings as required by the Act and the Commission's rules and regulations in 10 CFR Chapter I, which are set forth in the license amendment.

In accordance with 10 CFR 72.46(b)(2), a determination has been made that the amendment does not present a genuine issue as to whether public health and safety will be significantly affected. Therefore, the publication of a notice of proposed action and an opportunity for hearing or a notice of hearing is not warranted. Notice is hereby given of the right of interested persons to request a hearing on whether the action should be rescinded or modified.

The NRC staff has determined that the proposed action will not have a significant impact on the environment. For this action, an Environmental Assessment and Finding of No Significant Impact was prepared and published in the Federal Register (70 FR 16881, April 1, 2005). The request for amendment was docketed under 10 CFR Part 72, Docket 72-11. For further details with respect to this action, see the amendment request dated July 29, 2004, and December 2, 2004, supplement. The NRC maintains an Agencywide Documents Access and Management System (ADAMS), which provides text and image files of NRC's public documents. These documents may be accessed through the NRC's Public Electronic Reading Room on the Internet at: http://www.nrc.gov/reading-rm/adams.html. Copies of the referenced documents will also be available for review at the NRC Public Document Room (PDR), located at 11555 Rockville Pike, Rockville, MD 20852. PDR reference staff can be contacted at 1-800-397-4209, 301-415-4737 or by e-mail to pdr@nrc.gov. The PDR reproduction contractor will copy documents for a fee.

Dated at Rockville, Maryland, this 18th day of April, 2005.
For the Nuclear Regulatory Commission.
James R. Hall,
Senior Project Manager Licensing Section, Spent Fuel Project Office, Office of Nuclear Material Safety and Safeguards.

[FR Doc. E5-2051 Filed 4-28-05; 8:45 am]

BILLING CODE 7590-01-P